DEPARTMENT OF AGRICULTURE

Natural Resources Conservation Service

New Creek Site 14 Rehabilitation Project, New Creek—Whites Run Subwatershed of the Potomac River Watershed, Grant County, WV

AGENCY: Natural Resources Conservation Service.

ACTION: Notice of a Finding of No Significant Impact.

SUMMARY: Pursuant to Section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the New Creek Site 14 Rehabilitation Project of the New Creek—Whites Run Subwatershed of the Potomac River Watershed, Grant County, West Virginia.

FOR FURTHER INFORMATION CONTACT: Kevin Wickey, State Conservationist, Natural Resources Conservation Service, 75 High Street, Room 301, Morgantown, WV 26505, Phone: 304-284-7540.

SUPPLEMENTARY INFORMATION: The environmental assessment of this federally assisted action indicates that the project will not cause significant local, regional or national impacts on the environment. As a result of these findings, Kevin Wickey, State Conservationist, has determined that the preparation and review of an environmental impact statement are not needed for this project.

The project purposes are to rehabilitate Site 14 to bring the site into compliance with current Natural Resources Conservation Service design criteria and performance standards. The planned works of improvement include: Raising the effective top of dam to prevent overtopping during the probable maximum precipitation (PMP) event; Installation of a new intake riser; Lining the principal spillway pipe; Installing an impact basin; Installing an embankment surface drainage system; and Mitigating the temporary elimination of the lake's fishery.

Notice of a Finding of No Significant Impact (FONSI) has been forwarded to the Environmental Protection Agency and to various Federal, State and local agencies and interested parties. A limited number of copies of the FONSI are available to fill single copy requests at the above address. Basic data developed during the environmental assessment are on file and may be reviewed by contacting Kevin Wickey.

No administrative action on implementation of the proposal will be taken until 30 days after the date of this publication in the Federal Register.

(This activity is listed in the Catalog of Federal Domestic Assistance under NO. 10.904. Watershed Protection and Flood Prevention, and is subject to the provisions of Executive Order 12372, which requires intergovernmental consultation with State and local officials.)

Dated: September 18, 2008,
Kevin Wickey,
State Conservationist.

[FR Doc. E8-23153 Filed 9-30-08; 8:45 am]

BILLING CODE 3410-16-P